DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffic ``M'' denote a modification request. There applications have been separated from the new application for special permits to facilitate processing.

DATES: Comments must be received on or before October 31, 2007.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov.

This notice of receipt of applications for modification of special permit is published in accordance with Part 107 of the Federal hazardous materials transportation law (49 U.S.C. 5117(b); 49 CFR 1.53(b)).

Issued in Washington, DC, on October 10, 2007.
Delmer F. Billings,
Director, Office of Hazardous Materials, Special Permits and Approvals.

Modification Special Permits
Application No. | Docket No. | Applicant | Regulation(s) affected | Nature of special permit thereof
10914-M |  | Honeywell International, Inc., Morristown, NJ | 49 CFR 178.44 | To modify the special permit to authorize an increase in the service life of non-DOT specification pressure vessels used for the transportation of compressed helium.
11650-M |  | Autoliv ASP, Inc., Ogden, UT | 49 CFR 173.301; 173.302; 178.65-9 | To modify the special permit to authorize a new air bag inflator.
13548-M | RSPA-2004-17545 | Battery Council International (BCI) | 49 CFR 172.301(c), 173.159 | To modify the special permit to authorize an increase in the amount of battery acid that may be transported without placarding.
14096-M | RSPA-2005-20125 | United States Enrichment Corporation (USEC), Paducah, KY | 49 CFR 173.420 | To modify the special permit to authorize the one-time, one-way transportation of additional Model 480M and Model 48A cylinders containing a Class 7 material that does not conform to ANSI N14.1 standards.
14149-M | PHMSA-2005-20471 | Digital Wave Corporation, Englewood, CO | 49 CFR 180.205, 180.209 | To modify the special permit to remove the requirement for gain linearity control accuracy being checked every six months in accordance with ASTM-E317.
14206-M | PHMSA-2005-21762 | Digital Wave Corporation, Englewood, CO | 49 CFR 180.205 | To modify the special permit for gain linearity control accuracy being checked every six months in accordance with ASTM-E317.
14427-M | PHMSA-2006-26246 | The Procter & Gamble Company, Cincinnati, OH | 49 CFR 173.156(b)(1), 173.306(a) and 173.306(a)(3)(v) | To modify the special permit to authorize the transportation in commerce of consumer commodities that are unitized in cages, carts, boxes, or similar overpacks to be transported under the provisions of § 173.156(b).
14526-M |  | Kidde Aerospace, Wilson, NC | 49 CFR 173.302a | To reissue the special permit originally issued on an emergency basis for the transportation in commerce of a Division 2.2 compressed gas in a non-DOT specification cylinder similar to a DOT-39 for transportation by motor vehicle.

[FR Doc. 07-5082 Filed 10-15-07; 8:45 am]

BILLING CODE 4909-60-M